DEPARTMENT OF HOMELAND SECURITY

Federal Emergency Management Agency

[Docket ID FEMA-2019-0002; Internal Agency Docket No. FEMA-B-1970]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Alabama: Mobil | Unincorporated areas of Mobile County (19-04-3563P). | The Honorable Connie Hudson, President, Mobile County Commission, 205 Government Street, 10th Floor, South Tower, Mobile, AL 36644. | Mobile County Government Plaza, 205 Government Street, 6th Floor, South Tower, Mobile, AL 36644. | https://msc.fema.gov/portal/advanceSearch | Jan. 27, 2020 | 015008
Colorado:
Adams | Unincorporated areas of Adams County (19-08-0428P). | The Honorable Mary Hodge, Chair, Adams County Board of Commissioners, 4430 South Adams County Parkway, Suite C5000A, Brighton, CO 80601. | Adams County Public Works Department, 4430 South Adams County Parkway, Brighton, CO 80601. | https://msc.fema.gov/portal/advanceSearch | Jan. 24, 2020 | 080001
Arapaho | City of Aurora (19-08-0428P). | The Honorable Bob LeGare, Mayor, City of Aurora, 15151 East Alameda Parkway, Aurora, CO 80012. | Engineering Department, 15151 East Alameda Parkway, Aurora, CO 80012. | https://msc.fema.gov/portal/advanceSearch | Jan. 24, 2020 | 080002
Archuleta | Town of Pagosa Springs (19-08-0182P). | The Honorable Don Volger, Mayor, Town of Pagosa Springs, P.O. Box 1859, Pagosa Springs, CO 81147. | Town Hall, 551 Hot Springs Boulevard, Pagosa Springs, CO 81147. | https://msc.fema.gov/portal/advanceSearch | Jan. 31, 2020 | 080019
Archuleta | Unincorporated areas of Archuleta County (19-08-0182P). | Mr. Scott Wall, Archuleta County Administrator, P.O. Box 1507, Pagosa Springs, CO 81147. | Archuleta County Planning Department, 1122 Highway 84, Pagosa Springs, CO 81147. | https://msc.fema.gov/portal/advanceSearch | Jan. 31, 2020 | 080273
Boulder | City of Boulder (19-08-0401P). | The Honorable Suzanne Jones, Mayor, City of Boulder, 1777 Broadway, Boulder, CO 80302. | Planning and Development Services Department, 1739 Broadway, Boulder, CO 80302. | https://msc.fema.gov/portal/advanceSearch | Jan. 22, 2020 | 080024
El Paso | City of Colorado Springs (19-08-0304P). | The Honorable John Suthers, Mayor, City of Colorado Springs, 30 South Nevada Avenue, Suite 601, Colorado Springs, CO 80903. | Pikes Peak Regional Development Center, 2880 International Circle, Colorado Springs, CO 80910. | https://msc.fema.gov/portal/advanceSearch | Feb. 3, 2020 | 080060
Larimer | Town of Berthoud (19-08-0573P). | Mr. Chris Kirk, Town of Berthoud Administrator, P.O. Box 1229, Berthoud, CO 80513. | Public Works Department, 807 Mountain Avenue, Berthoud, CO 80513. | https://msc.fema.gov/portal/advanceSearch | Jan. 17, 2020 | 080296
Larimer | Unincorporated areas of Larimer County (19-08-0573P). | The Honorable Tom Donnelly, Chairman, Larimer County Board of Commissioners, P.O. Box 1190, Fort Collins, CO 80522. | Larimer County Engineering Department, 200 West Oak Street, Suite 3000, Fort Collins, CO 80521. | https://msc.fema.gov/portal/advanceSearch | Jan. 17, 2020 | 080101
Florida:
Charlotte | Unincorporated areas of Charlotte County (18-04-3990P). | The Honorable Ken Doherty, Chairman, Charlotte County Board of Commissioners, 18500 Murdock Circle, Suite 536, Port Charlotte, FL 33948. | Charlotte County Community Development Department, 18400 Murdock Circle, Port Charlotte, FL 33948. | https://msc.fema.gov/portal/advanceSearch | Dec. 31, 2019 | 120061
Lake | City of Clermont (19-04-1054P). | The Honorable Gail L. Ash, Mayor, City of Clermont, 685 West Montrose Street, Clermont, FL 34711. | Engineering Department, 400 12th Street, Clermont, FL 34711. | https://msc.fema.gov/portal/advanceSearch | Jan. 28, 2020 | 120133
Lake | City of Groveland (19-04-4877X). | The Honorable Evelyn Wilson, Mayor, City of Groveland, 156 South Lake Avenue, Groveland, FL 34736. | City Hall, 156 South Lake Avenue, Groveland, FL 34736. | https://msc.fema.gov/portal/advanceSearch | Jan. 17, 2020 | 120135
Lake | Town of Howey in the Hills (19-04-2449P). | The Honorable David Nebel, Mayor, Town of Howey in the Hills, 101 North Palm Avenue, Howey in the Hills, FL 34737. | Town Hall, 101 North Palm Avenue, Howey in the Hills, FL 34737. | https://msc.fema.gov/portal/advanceSearch | Jan. 30, 2020 | 120585
Lake | Unincorporated areas of Lake County (19-04-1054P). | Mr. Jeff Cole, Lake County Manager, 315 West Main Street, Tavares, FL 32778. | Lake County Public Works Department, 323 North Sinclair Avenue, Tavares, FL 32778. | https://msc.fema.gov/portal/advanceSearch | Jan. 28, 2020 | 120421
Lake | Unincorporated areas of Lake County (19-04-2449P). | Mr. Jeff Cole, Lake County Manager, 315 West Main Street, Tavares, FL 32778. | Lake County Public Works Department, 323 North Sinclair Avenue, Tavares, FL 32778. | https://msc.fema.gov/portal/advanceSearch | Jan. 30, 2020 | 120421
Lake | Unincorporated areas of Lake County (19-04-4877X). | Mr. Jeff Cole, Lake County Manager, 315 West Main Street, Tavares, FL 32778. | Lake County Public Works Department, 323 North Sinclair Avenue, Tavares, FL 32778. | https://msc.fema.gov/portal/advanceSearch | Jan. 17, 2020 | 120421
Lee | Town of Fort Myers Beach (19-04-4050P). | The Honorable Anita Cereceda, Mayor, Town of Fort Myers Beach, 2525 Estero Boulevard, Fort Myers Beach, FL 33931. | Community Development Department, 2525 Estero Boulevard, Fort Myers Beach, FL 33931. | https://msc.fema.gov/portal/advanceSearch | Jan. 23, 2020 | 120673
Lee | Town of Fort Myers Beach (19-04-5110P). | The Honorable Anita Cereceda, Mayor, Town of Fort Myers Beach, 2525 Estero Boulevard, Fort Myers Beach, FL 33931. | Community Development Department, 2525 Estero Boulevard, Fort Myers Beach, FL 33931. | https://msc.fema.gov/portal/advanceSearch | Jan. 27, 2020 | 120673
Lee | Unincorporated areas of Lee County (18-04-3990P). | Mr. Roger Desjarlais, Lee County Manager, 2115 2nd Street, Fort Myers, FL 33901. | Lee County Building Department, 1500 Monroe Street, Fort Myers, FL 33901. | https://msc.fema.gov/portal/advanceSearch | Dec. 31, 2019 | 125124
Lee | Unincorporated areas of Lee County (19-04-0766P). | Mr. Roger Desjarlais, Lee County Manager, 2115 2nd Street, Fort Myers, FL 33901. | Lee County Building Department, 1500 Monroe Street, Fort Myers, FL 33901. | https://msc.fema.gov/portal/advanceSearch | Jan. 29, 2020 | 125124
Lee | Unincorporated areas of Lee County (19-04-3867P). | Mr. Roger Desjarlais, Lee County Manager, 2115 2nd Street, Fort Myers, FL 33901. | Lee County Building Department, 1500 Monroe Street, Fort Myers, FL 33901. | https://msc.fema.gov/portal/advanceSearch | Jan. 13, 2020 | 125124
Monroe | City of Marathon (19-04-5677P). | The Honorable John Bartus, Mayor, City of Marathon, 9805 Overseas Highway, Marathon, FL 33050. | Planning Department, 9805 Overseas Highway, Marathon, FL 33050. | https://msc.fema.gov/portal/advanceSearch | Jan. 29, 2020 | 120681
Monroe | Unincorporated areas of Monroe County (19-04-3460P). | The Honorable Sylvia Murphy, Mayor, Monroe County Board of Commissioners, 102050 Overseas Highway, Suite 234, Key Largo, FL 33037. | Monroe County Building Department, 2798 Overseas Highway, Suite 300, Marathon, FL 33050. | https://msc.fema.gov/portal/advanceSearch | Jan. 29, 2020 | 125129
Monroe | Unincorporated areas of Monroe County (19-04-4672P). | The Honorable Sylvia Murphy, Mayor, Monroe County Board of Commissioners, 102050 Overseas Highway, Suite 234, Key Largo, FL 33037. | Monroe County Building Department, 2798 Overseas Highway, Suite 300, Marathon, FL 33050. | https://msc.fema.gov/portal/advanceSearch | Jan. 9, 2020 | 125129
Monroe | Unincorporated areas of Monroe County (19-04-5713P). | The Honorable Sylvia Murphy, Mayor, Monroe County Board of Commissioners, 102050 Overseas Highway, Suite 234, Key Largo, FL 33037. | Monroe County Building Department, 2798 Overseas Highway, Suite 300, Marathon, FL 33050. | https://msc.fema.gov/portal/advanceSearch | Jan. 22, 2020 | 125129
Osceola | Unincorporated areas of Osceola County (19-04-0903P). | The Honorable Cheryl Grieb, Chair, Osceola County Board of Commissioners, 1 Courthouse Square, Suite 4700, Kissimmee, FL 34741. | Osceola County Stormwater Department, 1 Courthouse Square, Suite 3100, Kissimmee, FL 34741. | https://msc.fema.gov/portal/advanceSearch | Jan. 13, 2020 | 120189
Louisiana: Lincoln | City of Ruston (19-06-2114P). | The Honorable Ronny Walker, Mayor, City of Ruston, P.O. Box 2069, Ruston, LA 71273. | Department of Public Works, 701 East Tennessee Avenue, Ruston, LA 71273. | https://msc.fema.gov/portal/advanceSearch | Dec. 26, 2019 | 220347
Maryland: Prince George's | Unincorporated areas of Prince George's County (19-03-0431P). | The Honorable Angela D. Alsobrooks, Prince George's County Executive, 1301 McCormick Drive, Suite 4000, Largo, MD 20774. | Prince George's County Inglewood Center II, 1801 McCormick Drive, Suite 500, Largo, MD 20774. | https://msc.fema.gov/portal/advanceSearch | Jan. 17, 2020 | 245208
Massachusetts:
Plymouth | Town of Duxbury (19-01-0097P). | The Honorable David J. Madigan, Chairman, Town of Duxbury Board of Selectmen, 878 Tremont Street, Duxbury, MA 02332. | Municipal Services Department, 878 Tremont Street, Duxbury, MA 02332. | https://msc.fema.gov/portal/advanceSearch | Jan. 10, 2020 | 250263
Plymouth | Town of Marshfield (19-01-0097P). | The Honorable Joseph E. Kelleher, Chairman, Town of Marshfield Board of Selectmen, 870 Moraine Street, Marshfield, MA 02050. | Building Department, 870 Moraine Street, Marshfield, MA 02050. | https://msc.fema.gov/portal/advanceSearch | Jan. 10, 2020 | 250273
New Mexico:
Taos | Town of Taos (19-06-1165P). | The Honorable Daniel R. Barrone, Mayor, Town of Taos, 400 Camino De La Placita, Taos, NM 87571. | Department of Public Works, 400 Camino De La Placita, Taos, NM 87571. | https://msc.fema.gov/portal/advanceSearch | Dec. 13, 2019 | 350080
Taos | Town of Taos (19-06-1284P). | The Honorable Daniel R. Barrone, Mayor, Town of Taos, 400 Camino De La Placita, Taos, NM 87571. | Department of Public Works, 400 Camino De La Placita, Taos, NM 87571. | https://msc.fema.gov/portal/advanceSearch | Jan. 10, 2020 | 350080
South Carolina: Horry | City of North Myrtle Beach (19-04-5172P). | Mr. Mike Mahaney, City of North Myrtle Beach Manager, 1018 2nd Avenue South, North Myrtle Beach, SC 29582. | Building Department, 1018 2nd Avenue South, North Myrtle Beach, SC 29582. | https://msc.fema.gov/portal/advanceSearch | Jan. 27, 2020 | 450110
Texas:
Bexar | City of San Antonio (19-06-1449P). | The Honorable Ron Nirenberg, Mayor, City of San Antonio, P.O. Box 839966, San Antonio, TX 78283. | Transportation and Capitol Improvements Department, Storm Water Division, San Antonio, TX 78204. | https://msc.fema.gov/portal/advanceSearch | Dec. 30, 2019 | 480045
Collin | City of Princeton (19-06-0798P). | The Honorable John Mark Caldwell, Mayor, City of Princeton, 123 West Princeton Drive, Princeton, TX 75407. | Development Services Department, 123 West Princeton Drive, Princeton, TX 75407. | https://msc.fema.gov/portal/advanceSearch | Feb. 3, 2020 | 480757
Collin | Unincorporated areas of Collin County (19-06-0798P). | The Honorable Chris Hill, Collin County Judge, 2300 Bloomdale Road, Suite 4192, McKinney, TX 75071. | Collin County Engineering Department, 4690 Community Avenue, Suite 200, McKinney, TX 75071. | https://msc.fema.gov/portal/advanceSearch | Feb. 3, 2020 | 480130
Dallas | City of Coppell (19-06-0270P). | The Honorable Karen Hunt, Mayor, City of Coppell, P.O. Box 9478, Coppell, TX 75019. | City Hall, 200 South Main Street, Coppell, TX 76099. | https://msc.fema.gov/portal/advanceSearch | Jan. 6, 2020 | 480170
Denton | City of Carrollton (19-06-1616X). | The Honorable Kevin Falconer, Mayor, City of Carrollton, P.O. Box 110535, Carrollton, TX 75011. | Engineering Department, 1945 East Jackson Road, Carrollton, TX 75006. | https://msc.fema.gov/portal/advanceSearch | Dec. 23, 2019 | 480167
Denton | City of Lewisville (19-06-1616X). | The Honorable Rudy Durham, Mayor, City of Lewisville, P.O. Box 299002, Lewisville, TX 75029. | Engineering Division, 151 West Church Street, Lewisville, TX 75057. | https://msc.fema.gov/portal/advanceSearch | Dec. 23, 2019 | 480195
Tarrant | City of Fort Worth (19-06-0340P). | The Honorable Betsy Price, Mayor, City of Fort Worth, 200 Texas Street, Fort Worth, TX 76102. | Transportation and Public Works Department, 200 Texas Street, Fort Worth, TX 76102. | https://msc.fema.gov/portal/advanceSearch | Jan. 27, 2020 | 480596
Tarrant | City of Grapevine (19-06-0270P). | The Honorable William D. Tate, Mayor, City of Grapevine, P.O. Box 95104, Grapevine, TX 76099. | City Hall, 200 South Main Street, Grapevine, TX 76099. | https://msc.fema.gov/portal/advanceSearch | Jan. 6, 2020 | 480598
Virginia: Prince William | Unincorporated areas of Prince William County (19-03-0792P). | Mr. Christopher E. Martino, Prince William County Executive, 1 County Complex Court, Prince William, VA 22192. | Prince William County Department of Public Works, Watershed Management Branch, 5 County Complex Court, Prince William, VA 22192. | https://msc.fema.gov/portal/advanceSearch | Jan. 16, 2020 | 510119

[FR Doc. 2019-23226 Filed 10-23-19; 8:45 am]

BILLING CODE 9110-12-P